ARCHITECTURAL AND TRANSPORTATION BARRIERS COMPLIANCE BOARD

[Docket No. ATBCB-2014-0002]

Agency Information Collection Activities: Requests for Comments; Clearance of Renewed Approval of Information Collection: Generic Clearance for the Collection of Qualitative Feedback on Agency Service Delivery

AGENCY: Architectural and Transportation Barriers Compliance Board.

ACTION: Notice and request for comments.

SUMMARY: In accordance with the Paperwork Reduction Act of 1995 (PRA) (44 U.S.C. 3501, et seq.), the Architectural and Transportation Barriers Compliance Board (Access Board) invites public comments about our intention to request the Office of Management and Budget's (OMB) approval to renew a generic information collection. As part of a federal government-wide effort to streamline the process for seeking feedback from the public on service delivery, the Access Board has an approved Generic Information Collection Request (Generic ICR) entitled “Generic Clearance for the Collection of Qualitative Feedback on Agency Service Delivery.”

A copy of the draft supporting statement is available at http://www.regulations.gov (see Docket ID ATBCB-2014-0002).

DATES: Submit comments by September 26, 2014.

ADDRESSES: Submit comments by any of the following methods:

• Federal eRulemaking Portal http://www.regulations.gov. Follow the instructions for submitting comments. Regulations.gov ID for this docket is ATBCB-2014-0002.

• Email: damiani@access-board.gov. Include docket number ATBCB-2014-0002 in the subject line of the message.

• Fax: 202-272-0081.

• Mail or Hand Delivery/Courier: Office of the General Counsel, U.S. Access Board, 1331 F Street NW., Suite 1000, Washington, DC 20004-1111.

All comments received, including any personal information provided, will be posted without change to http://www.regulations.gov and are available for public viewing.

FOR FURTHER INFORMATION CONTACT: Mario Damiani, Office of the General Counsel, U.S. Access Board, 1331 F Street NW., Suite 1000, Washington, DC 20004-1111. Telephone number: 202-272-0050 (voice); 202-272-0064 (TTY); 202-272-0081 (FAX). Electronic mail address: damiani@access-board.gov.

SUPPLEMENTARY INFORMATION: OMB Control Number: 3014-0011.

Title: Generic Clearance for the Collection of Qualitative Feedback on Agency Service Delivery.

Type of Review: Renewal of a generic information collection.

Background: The proposed information collection activity provides a means to gather qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training, or changes in operations might improve delivery of products or services. These collections will allow for ongoing, collaborative, and actionable communications between the Access Board and its customers and stakeholders. It will also allow feedback to contribute directly to the improvement of program management.

Feedback collected under this generic clearance provides useful information, but it does not yield data that can be generalized to the overall population. This type of generic clearance for qualitative information will not be used for quantitative information collections that are designed to yield reliably actionable results, such as monitoring trends over time or documenting program performance. Such data uses require more rigorous designs that address: the target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

Respondents: Average annual estimate of approximately 1,100 Individuals and Households, Businesses and Organizations, State, Local or Tribal Government.

Below we provide projected average estimates for the next three years:

Average Expected Annual Number of Activities: 7.

Average Number of Respondents per Activity: 157.

Annual Responses: 1,100.

Frequency of Response: Once per request.

Estimated Average Burden per Response: 7.25 minutes.

Estimated Total Annual Burden: 120 hours.

Public Comments Invited: You are asked to comment on any aspect of this information collection, including (a) whether the proposed collection of information is necessary for the Access Board's performance; (b) the accuracy of the estimated burden; (c) ways for the Access Board to enhance the quality, utility, and clarity of the information collection; and (d) ways that the burden could be minimized without reducing the quality of the collected information. We will summarize your comments in the request for OMB's clearance of this information collection.

David M. Capozzi,
Executive Director.

[FR Doc. 2014-17632 Filed 7-25-14; 8:45 am]

BILLING CODE 8150-01-P